RAILROAD RETIREMENT BOARD

Proposed Collections; Comment Request

SUMMARY: In accordance with the requirement of Section 3506 (c)(2)(A) of the Paperwork Reduction Act of 1995 which provides opportunity for public comment on new or revised data collections, the Railroad Retirement Board (RRB) publishes periodic summaries of proposed data collections. The information collections numbered below are pending at RRB and will be submitted to OMB within 60 days from the date of this notice.

Comments are Invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and Purpose of Information Collection

Earnings Information Request; OMB 3220-0184

Under Section 2 of the Railroad Retirement Act, an annuity is not payable, or is reduced for any month(s) in which the beneficiary works for a railroad or earns more than prescribed amounts. The provisions relating to the reduction or non-payment of annuities by reason of work are prescribed in 20 CFR 230.

The RRB utilizes form G-19-F, Earnings Information Request, to obtain earnings information not previously or erroneously reported by a beneficiary. Completion of the form is required to retain a benefit. One response is requested of each respondent. The RRB proposes minor non-burden impacting editorial changes to Form G-19-F.

The RRB estimates that 1,000 G-19-F's are completed annually at an estimated completion time of eight minutes per response. Total respondent burden is estimated at 133 hours.

2. Title and Purpose of Information Collection

Self-Employment and Substantial Service Questionnaire; OMB 3220-0138

Section 2 of the Railroad Retirement Act (RRA) provides for payment of annuities to qualified employees and their spouses. In order to receive an age and service annuity, Section 2(e)(3) states that an applicant must stop all railroad work and give up any rights to return to such work. A disability applicant must give up all railroad work, but does not have to relinquish rights to return to railroad work until he or she attains full retirement age, or, if earlier, a spouse annuity or supplemental annuity becomes payable. Under the 1988 amendments to the RRA, an applicant is no longer required to stop work for a “Last Pre-Retirement Non-railroad Employer”(LPE). LPE is the last person, company or institution with whom an employee or spouse applicant was employed concurrently with, or after, the applicant's last railroad employment and before their annuity beginning date. However, Section 2(f)(6) of the RRA requires that a portion of the employee's Tier II benefit and supplemental annuity be deducted for earnings from a “LPE” employer.

The RRB utilizes Form AA-4, Self-Employment and Substantial Service Questionnaire to obtain information needed to determine if the applicant's work is LPE, railroad service or self-employment. If the work is self-employment, the questionnaire identifies any months in which the applicant did not perform substantial service. One response is requested of each respondent. Completion is voluntary. However, failure to complete the forms could result in the nonpayment of benefits. The RRB proposes no changes to Form AA-4.

The completion time for the AA-4 is estimated at between 40 and 70 minutes. The RRB estimates that approximately 600 AA-4's are completed annually. Total respondent burden is estimated at 415 hours.

3. Title and Purpose of Information Collection

Certification Regarding Rights to Unemployment Benefits; OMB 3220-0079

Under Section 4 of the Railroad Unemployment Insurance Act (RUIA), an employee who leaves work voluntarily is disqualified for unemployment benefits unless the employee left work for good cause and is not qualified for unemployment benefits under any other law. RRB Form UI-45, Claimant's Statement—Voluntary Leaving of Work, is used by the RRB to obtain additional information needed to investigate a claim for unemployment benefits when the claimant indicates on RRB Form UI-1, Application for Unemployment Benefits and Employment Service (OMB 3220-0022) that he has voluntarily left work. Completion of Form UI-45 is required to obtain or retain benefits. One response is received from each respondent. The RRB proposes to revise UI-45 by adding an item, “Reason for Leaving”, at the end of the column in Section 2. This item requests the employee to provide the reason they left their prior employment. This information helps the RRB determine whether the claimant left work voluntarily and with good cause. No other changes are being proposed.

The completion time for the UI-45 is estimated at 15 minutes per response. The RRB estimates that approximately 2,900 responses are received annually. Total respondent burden is estimated at 487 hours.

FOR FURTHER INFORMATION CONTACT: To request more information regarding any of the information collections listed above or to obtain copies of the information collection justifications, forms, and/or supporting material, please call the RRB Clearance Officer at (312) 751-3363 or send an e-mail request to Charles.Mierzwa@RRB.GOV. Comments regarding the information collections should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 04-7361 Filed 3-31-04; 8:45 am]

BILLING CODE 7905-01-P